DEPARTMENT OF HOMELAND SECURITY

[Docket No. DHS-2015-0060]

Homeland Security Science and Technology Advisory Committee (HSSTAC)

AGENCY: Science and Technology Directorate, DHS.

ACTION: Committee Management; Notice of Federal Advisory Committee Meeting.

SUMMARY: The Homeland Security Science and Technology Advisory Committee (HSSTAC) will meet on November 2-3, 2015 in Washington, DC. The meeting will be both in-person and virtual (webinar)—open session.

DATES: The HSSTAC will meet in-person Monday, November 2, 2015, from 12:45 p.m.-4:30 p.m. and Tuesday, November 3, 2015, from 8:00 a.m.-4:30 p.m.

Due to security, screening pre-registration is required for this event. Please see registration information below. Also, please note the meeting may close early if the committee has completed its business.

ADDRESSES: Homeland Security Acquisition Institute, 90 K Street NW., Suite 1200, Washington, DC 20005.

Virtual Meeting

For information on services for individuals with disabilities or to request special assistance at the meeting, contact Bishop Garrison as soon as possible. If you plan to attend the meeting in-person you must RSVP by Wednesday, October 29, 2015. To register send an email to HSSTAC@hq.dhs.gov with the following subject line: RSVP to HSSTAC Meeting. The email should include the name(s), title, organization/affiliation, email address, and telephone number of those interested in attending.

To pre-register for the virtual meeting (webinar) please send an email to: HSSTAC@HQ.DHS.GOV. The email should include the name(s), title, organization/affiliation, email address, and telephone number of those interested in attending.

To facilitate public participation, we invite public comment on the issues to be considered by the committee as listed in the “Supplementary Information” below. Written comments must be received by October 18, 2015, Please include the docket number (DHS-2015-0060) and submit via one of the following methods:

• Federal eRulemaking Portal: http://www.regulations.gov. Follow the instructions for submitting comments.

• Email: HSSTAC@HQ.DHS.GOV. Include the docket number in the subject line of the message.

• Fax: 202-254-6176.

• Mail: Bishop Garrison, HSSTAC Executive Director, S&T IAO STOP 0205, Department of Homeland Security, 245 Murray Lane, Washington, DC 20528-0205

Instructions: All submissions received must include the words “Department of Homeland Security” and the docket number. Comments received will be posted without alteration at http://www.regulations.gov,

Docket: For access to the docket to read background documents or comments received by the HSSTAC, go to http://www.regulations.gov and enter the docket number into the search function: DHS-2015-0060.

A period is allotted for public comment on November 2 and November 3, 2015 at the end of each open session. Please note that the public comment period may end before the time indicated, following the last call for comments. To register as a speaker, contact the person listed below.

FOR FURTHER INFORMATION CONTACT: Bishop Garrison, HSSTAC Executive Director, S&T IAO STOP 0205, Department of Homeland Security, 245 Murray Lane, Washington, DC 20528-0205, 202-254-5617(O), 202-254-6176 (F) bishop.garrison@HQ.DHS.GOV (E)

SUPPLEMENTARY INFORMATION: Notice of this meeting is given under the Federal Advisory Committee Act (FACA), 5 U.S.C. Appendix (Pub. L. 92-463). The committee addresses areas of interest and importance to the Under Secretary for Science and Technology, such as new developments in systems engineering, cyber-security, knowledge management and how best to leverage related technologies funded by other federal agencies and by the private sector. It also advises the Under Secretary on policies, management processes, and organizational constructs as needed.

Agenda: Day 1: Morning session will be closed for administrative purposes. There will be two afternoon sessions covering emerging threats and engagement with the homeland security industrial base, followed by public comments. Day 2: Dr. Reginald Brothers, Under Secretary for Science and Technology, will provide the mission, goals and deliverables for S&T followed by questions and comments from the public. The afternoon session will cover science and technology management and strategy, as well as research and development to counter current threats, followed by public comment. The DFO will then discuss the Department of Homeland Security's direction to the committee and subcommittee standup. The committee will deliberate on any preliminary recommendations, and formulate initial recommendations on science and technology management and strategy and on research and development to counter current threats for topic consideration at the next HSSTAC meeting.

Dated: October 8, 2015.
Bishop Garrison,
Executive Director, Homeland Security Science and Technology Advisory Committee.

[FR Doc. 2015-26494 Filed 10-16-15; 8:45 am]

BILLING CODE 9110-9F-P